DEPARTMENT OF TRANSPORTATION

Coast Guard

[USCG-2001-10615]

National Offshore Safety Advisory Committee

AGENCY: Coast Guard, DOT.

ACTION: Notice of meetings.

SUMMARY: The National Offshore Safety Advisory Committee (NOSAC) and its Subcommittees will meet to discuss various issues relating to offshore safety. All meetings will be open to the public.

DATES: NOSAC will meet on Thursday, November 8, 2001, from 9 a.m. to 3 p.m. The Subcommittee on Deepwater Activities will meet on Wednesday, November 7, 2001, from 8 am to 10 am, and the Subcommittee on Prevention Through People will meet on Wednesday, November 7, 2001 from 10 am to 12 midday. These meetings may close early if all business is finished. Written material and requests to make oral presentations should reach the Coast Guard on or before October 24, 2001. Requests to have a copy of your material distributed to each member of the committee should reach the Coast Guard on or before October 24, 2001.

ADDRESSES: NOSAC will meet in room 737 (Hearing Room) of the Coast Guard Marine Safety Office, 1615 Poydras Street, New Orleans, LA. The Subcommittee on Deepwater Activities and the Subcommittee on Prevention Through People will also meet in room 737 of the Coast Guard Marine Safety Office, 1615 Poydras Street, New Orleans, LA. Send written material and requests to make oral presentations to Captain M. W. Brown, Commandant (G-MSO), U.S. Coast Guard Headquarters, 2100 Second Street SW, Washington, DC 20593-0001. This notice is available on the Internet at http://dms.dot.gov.

FOR FURTHER INFORMATION CONTACT: Captain M. W. Brown, Executive Director of NOSAC, or Mr. Jim Magill, Assistant to the Executive Director, telephone 202-267-0214, fax 202-267-4570.

SUPPLEMENTARY INFORMATION: Notice of these meetings is given under the Federal Advisory Committee Act, 5 U.S.C. App. 2.

Agenda of Meetings

National Offshore Safety Advisory Committee. The agenda includes the following:

(1) Report on issues concerning the International Maritime Organization and the International Organization of Standardization.

(2) Progress report from the Prevention Through People Subcommittee on “Crew Alertness in the Offshore Industry.”

(3) Progress report from Subcommittee on Deepwater Activities.

(4) Report from Task Force on development and implementation of STCW Convention for OSVs.

(5) Progress report from the Subcommittee on Pipeline-Free Anchorages.

(6) Status reports on revision of 33 CFR Subchapter N.

(7) Status report on USCG/MMS rulemaking on Inspection of Fixed Facilities.

(8) Presentation on Coast Guard Deepwater Project.

(9) Discussion on IMO in-service testing of lifeboats.

Subcommittee on Deepwater Activities. The agenda includes the following:

(1) Review and discuss previous Subcommittee work.

(2) Outline Draft report.

Subcommittee on Prevention Through People. The agenda includes the following:

(1) Subcommittee members provide Chairman with comments from their review of material sent out to them.

(2) Work on outline of Draft report.

Procedural

All meetings are open to the public. Please note that the meetings may close early if all business is finished. At the Chair's discretion, members of the public may make oral presentations during the meetings. If you would like to make an oral presentation at a meeting, please notify the Executive Director no later than October 24, 2001. Written material for distribution at a meeting should reach the Coast Guard no later than October 24, 2001. If you would like a copy of your material distributed to each member of the committee or subcommittee in advance of the meeting, please submit 25 copies to the Executive Director no later than October 24, 2001.

Information on Services for Individuals With Disabilities

For information on facilities or services for individuals with disabilities or to request special assistance at the meetings, contact the Executive Director as soon as possible.

Dated: September 11, 2001.
Howard L. Hime,
Acting Director of Standards, Marine Safety and Environmental Protection.

[FR Doc. 01-23278 Filed 9-18-01; 8:45 am]

BILLING CODE 4910-15-U